ENVIRONMENTAL PROTECTION AGENCY

40 CFR Part 180

[EPA-HQ-OPP-2010-0889; FRL-9391-4]

Sulfoxaflor; Pesticide Tolerances; Technical Correction

AGENCY: Environmental Protection Agency (EPA).

ACTION: Final rule; technical correction.

SUMMARY: EPA issued a final rule in the Federal Register of May 17, 2013, concerning the establishment of tolerances for the insecticide sulfoxaflor on multiple commodities. This document corrects an inadvertent error by moving the tolerances established under 40 CFR 180.670 to 40 CFR 180.668 and removing § 180.670. This document additionally removes the time-limited tolerances for cotton, undelinted seed; cotton, gin byproducts; and cotton, hulls as the tolerances have been superseded by permanent tolerances.

DATES: This final rule is effective June 26, 2013.

ADDRESSES: The docket for this action, identified by docket identification (ID) number EPA-HQ-OPP-2010-0889, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Jennifer Urbanski, Registration Division, (7505P), Office of Pesticide Programs, Environmental Protection Agency, 1200 Pennsylvania Ave. NW., Washington, DC 20460-0001; telephone number: (703) 347-0156; email address: urbanski.jennifer@epa.gov.

SUPPLEMENTARY INFORMATION:

I. Does this action apply to me?

The Agency included in the final rule a list of those who may be potentially affected by this action.

II. What does this technical correction do?

EPA issued a final rule in the Federal Register on May 17, 2013 (78 FR 29041), establishing tolerances for residues of the insecticide sulfoxaflor in or on multiple commodities. That rule incorrectly established tolerances for sulfoxaflor in a new section of 40 CFR part 180 (§ 180.670). Instead of creating a new section for these tolerances, EPA should have added those newly established sulfoxaflor tolerances to the already existing sulfoxaflor tolerances contained in 40 CFR 180.668. The incorrect regulatory designations were due to an inadvertent error in the Federal Register publication. Therefore, this action corrects this error by transferring the tolerances contained in § 180.670 to § 180.668 and removes § 180.670. In addition, EPA is removing the time-limited tolerances for cotton, undelinted seed; cotton, gin byproducts; and cotton, hulls contained in paragraph (b) of § 180.668 since these time-limited tolerances have been superseded by permanent tolerances that were established in the May 17, 2013 rule (78 FR 29041).

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because this action does not make any substantive alterations in the existing tolerances. It is merely a housekeeping measure. Today's action merges the contents of two existing regulations that contain sulfoxaflor tolerances and removes the time-limited tolerances contained in § 180.668(b) since they have been superseded by permanent tolerances contained in paragraph (a). EPA finds that this constitutes good cause under 5 U.S.C. 553(b)(3)(B).

IV. Do any of the statutory and executive order reviews apply to this action?

This final rule implements a technical correction to the Code of Federal Regulations, and it does not otherwise impose or amend any requirements. Under Executive Order 12866 (58 FR 51735, October 4, 1993), this action is not a “significant regulatory action” and is therefore not subject to OMB review. Because this action is not subject to notice and comment requirements under the Administrative Procedures Act or any other statute, it is not subject to the Regulatory Flexibility Act (5 U.S.C. 601 et seq.) or sections 202 and 205 of the Unfunded Mandates Reform Act of 1999 (UMRA) (Pub. L. 104-4). In addition, this action does not significantly or uniquely affect small governments. This action does not create new binding legal requirements that substantially and directly affect Tribes under Executive Order 13175 (63 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of section 12(d) of the National Technology Transfer and Advancement Act of 1995 (15 U.S.C. 272 note) do not apply. The Congressional Review Act, 5 U.S.C. 801 et seq., generally provides that before certain actions may take effect, the agency promulgating the action must submit a report, which includes a copy of the action, to each House of the Congress and to the Comptroller General of the United States. Because this final action does not contain legally binding requirements, it is not subject to the Congressional Review Act.

List of Subjects in 40 CFR Part 180

Environmental protection, Administrative practice and procedure, Agricultural commodities, Pesticides and pests, Reporting and recordkeeping requirements.

Dated: June 20, 2013.
Lois Rossi,
Director, Registration Division, Office of Pesticide Programs.

Therefore, 40 CFR part 180 is corrected as follows:

PART 180—[AMENDED]

1. The authority citation for part 180 continues to read as follows:

Authority: 21 U.S.C. 321(q), 346a and 371.

2. Amend § 180.668 by adding paragraph (a) and by removing and reserving paragraph (b) to read as follows:

§ 180.668 Sulfoxaflor; tolerances for residues.

(a) General. Tolerances are established for residues of the insecticide sulfoxaflor, including its metabolites and degradates, in or on the commodities in the table. Compliance with the tolerance levels specified is to be determined by measuring only sulfoxaflor (N-[methyloxido[1-[6-(trifluoromethyl)-3-pyridinyl]ethyl]-γ⁴-sulfanylidene]cyanamide).

Commodity | Parts per million
Almond, hulls | 6.0
Barley, grain | 0.40
Barley, hay | 1.0
Barley, straw | 2.0
Bean, dry seed | 0.20
Bean, succulent | 4.0
Beet, sugar, dried pulp | 0.07
Beet, sugar, molasses | 0.25
Berry, low growing, subgroup 13-7G | 0.70
Cattle, fat | 0.10
Cattle, meat | 0.15
Cattle, meat byproducts | 0.40
Cauliflower | 0.08
Citrus, dried pulp | 3.6
Cotton, gin byproducts | 6.0
Cotton, hulls | 0.35
Cottonseed subgroup 20C | 0.20
Fruit, citrus, group 10-10 | 0.70
Fruit, pome, group 11-10 | 0.50
Fruit, small, vine climbing, subgroup 13-07F, except fuzzy kiwi fruit | 2.0
Fruit, stone, group 12 | 3.0
Goat, fat | 0.10
Goat, meat | 0.15
Goat, meat byproducts | 0.40
Grain, aspirated fractions | 20.0
Grape, raisin | 6.0
Hog, fat | 0.01
Hog, meat | 0.01
Hog, meat byproducts | 0.01
Horse, fat | 0.10
Horse, meat | 0.15
Horse, meat byproducts | 0.40
Leafy greens, subgroup 4A | 6.0
Leafy petiole, subgroup 4B | 2.0
Milk | 0.15
Nuts, tree, group 14 | 0.015
Onion, bulb, subgroup 3-07A | 0.01
Onion, green, subgroup 3-07B | 0.70
Pistachio | 0.015
Poultry, eggs | 0.01
Poultry, fat | 0.01
Poultry, meat | 0.01
Poultry, meat byproducts | 0.01
Rapeseed, meal | 0.50
Rapeseed subgroup 20A | 0.40
Sheep, fat | 0.10
Sheep, meat | 0.15
Sheep, meat byproducts | 0.40
Soybean, seed | 0.20
Tomato, paste | 2.60
Tomato, puree | 1.20
Vegetable, brassica, leafy, group 5, except cauliflower | 2.0
Vegetable, cucurbit, group 9 | 0.40
Vegetable, fruiting, group 8-10 | 0.70
Vegetable, leaves of root and tuber, group 2 | 3.0
Vegetable, legume, foliage, group 7 | 3.0
Vegetable, root and tuber, group 1 | 0.05
Watercress | 6.0
Wheat, forage | 1.0
Wheat, grain | 0.08
Wheat, hay | 1.5
Wheat, straw | 2.0

(b) Section 18 emergency exemptions. [Reserved]

* * * * *

§ 180.670 [Removed]

3. Remove § 180.670.

[FR Doc. 2013-15306 Filed 6-25-13; 8:45 am]

BILLING CODE 6560-50-P